DEPARTMENT OF AGRICULTURE

Forest Service

Information Collection; Health Screening Questionnaire

AGENCY: Forest Service, USDA.

ACTION: Notice; request for comments.

SUMMARY: In accordance with the Paperwork Reduction Act of 1995, the Forest Service is seeking comments from all interested individuals and organizations on the continuation of the information collection process for health screening of individuals who seek certification or recertification for firefighter positions. This process is known as the Health Screening Questionnaire. The process applies to individuals applying for firefighter positions and to Forest Service firefighters to determine if they meet the qualifications to safely perform assigned duties as a Forest Service firefighter.

DATES: Comments must be received in writing on or before August 13, 2004.

ADDRESSES: Comments concerning this notice should be addressed to Ed Hollenshead, National Safety Officer, National Interagency Fire Center, Forest Service, USDA, 3833 South Development Avenue, Boise, ID 83705-5354.

Comments also may be submitted via facsimile to (208) 387-5398 or by e-mail to: ehollenshead@fs.fed.us.

The public may inspect comments received at the National Safety Office , National Interagency Fire Center, Forest Service, USDA, 3833 Development Avenue, Boise, ID, from 8 a.m. to 4:30 p.m. Monday though Friday m.d.t. Visitors are encouraged to call ahead to (208) 387-5102 to facilitate entry to the building.

FOR FURTHER INFORMATION CONTACT: Ed Hollenshead, National Safety Officer, at (208) 387-5102.

SUPPLEMENTARY INFORMATION: Title: Health Screening Questionnaire.

OMB Number: 0596-0164.

Expiration Date of Approval: June 12, 2004.

Type of Request: Extension with Revision.

Abstract: The Protection Act of 1922 (16 U.S.C. 594) authorizes the Forest Service to fight fires on National Forest System lands. The individuals that perform firefighter jobs are subjected to strenuous working conditions requiring long hours of arduous labor. It is imperative they be in peak physical condition to avoid injury to themselves or their coworkers.

Current or prospective firefighters must complete the Health Screening Questionnaire (HSQ) when seeking employment as a new firefighter with the Forest Service or recertification as a Forest Service firefighter. The information collected pertains to the individuals health status and health history in an effort to determine if any physical conditions exist or have developed that might result in injury or death during fitness testing or when fighting a National Forest wildfire. Forest Service employees will evaluate the collected information to determine if the individual seeking certification or recertification may begin a fitness program to train for the arduous level “Pack Test” of the Work Capacity Tests. If Forest Service employees determine, based on the collected information, that an individual may not be physically able to train for the arduous level of the Work Capacity Test, the agency will require the individual to undergo a physical examination from a physician.

Information collected will be evaluated by a human resource specialist within the specific unit office to ensure that individuals applying for a position or seeking recertification meet the fitness requirements of the position. Forest Service employees will collect general information about the current health of the individual such as height, weight, current level of fitness activity, previous serious health injuries, diseases, or heart conditions, and special current conditions such as allergies and diabetes. The Forest Service will revise the form by dropping the words “or over the counter” from the second item under “Section A” under subhead “Other Health Issues.” This change is requested as prescription medications indicate a condition being treated by a physician, and therefore, represents an indication of the individual's health. Individual's determined to be in sufficient health will be asked to complete the “Work Capacity Tests,” which would include testing the level of an individual's aerobic fitness, level of muscular strength, and muscle endurance.

Failure to collect this data will result in a higher number of unwanted injuries, or even deaths, during the “Work Capacity Test” and while working on wildland fires. If the data is not collected annually, there will be no way to determine if an individual's condition has changed since the previous year.

The information provided by an individual will be placed in the person's Official Employee Medical File and any release of the information will be in accordance with the Privacy Act (5 U.S.C. 552a) and the Freedom of Information Act (5 U.S.C. 552). Data gathered in this information collection is not available from other sources.

Estimate of Annual Burden: 5 minutes.

Type of Respondents: Current employees requesting certification or recertification as a firefighter (Red-Card) and applicants seeking Forest Service firefighter positions.

Estimated Annual Number of Respondents: 15,000.

Estimated Annual Number of Responses per Respondent: 1.

Estimated Total Annual Burden on Respondents: 1,250 hours.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: June 3, 2004.
Robin L. Thompson,
Associate Deputy Chief, State and Private Forestry.

[FR Doc. 04-13317 Filed 6-10-04; 8:45 am]

BILLING CODE 3410-11-P